INTERNATIONAL TRADE COMMISSION

USITC SE-01-035

Sunshine Act Meeting

Agency Holding the Meeting: United States International Trade Commission.

Time and Date: October 22, 2001 at 2:00 p.m.

Place: Room 101, 500 E Street SW., Washington, DC 20436 Telephone: (202) 205-2000.

Status: Open to the public.

Matters to be Considered:

1. Agenda for future meeting: none.

2. Minutes.

3. Ratification List.

4. Inv. Nos. 701-TA-365 and 731-TA-734-735 (Review)(Certain Pasta from Italy and Turkey)—briefing and vote. (The Commission is currently scheduled to transmit its determination and Commissioners' opinions to the Secretary of Commerce on October 29, 2001.)

5. Inv. No. TA-201-73 (Injury Phase)(Steel)—briefing and vote. (The Commission is currently scheduled to transmit its recommendations to the President on December 19, 2001.)

6. Outstanding action jackets: none.

In accordance with Commission policy, subject matter listed above, not disposed of at the scheduled meeting, may be carried over to the agenda of the following meeting.

By order of the Commission:
Issued: October 11, 2001.
Donna R. Koehnke,
Secretary.

[FR Doc. 01-26117 Filed 10-12-01; 12:46 pm]

BILLING CODE 7020-02-P